DEPARTMENT OF HEALTH AND HUMAN SERVICES

Administration for Children and Families

Submission for OMB Review; Comment Request

Title: Mentoring Children of Prisoners Relationship Quality Survey.

OMB No.: 0970-0308.

Description: The Promoting Safe and Stable Families Amendments of 2001 (Pub. L. 107-133) amended Title IV-B of the Social Security Act (42 U.S.C. 629-629e) to provide funding for nonprofit agencies that recruit, screen, train, and support mentors for children with an incarcerated parent or parents. The Family and Youth Services Bureau (FYSB) of the Administration for Children and Families, United States Department of Health and Human Services, administers the Monitoring Children of Prisoners (MCP) program. The MCP program creates lasting, high-quality one-to-one mentoring relationships that provide young people with caring adult role models. The quality of these relationships is an important indicator of success in mentoring programs. Previous research has shown an association between high-quality mentoring relationships and positive changes in youth behavior associated with positive youth benefits, such as improved school attendance, reductions in risk behavior, and other benefits.

The Relationship Quality Instrument consists of 15 rigorously field-tested questions about the relationship, plus several questions that establish context (age, gender, duration of relationship and frequency of contacts, etc.). The answers to the questions help assess how satisfied the youth (mentee) is with the relationship; whether the mentee is happy in the relationship; whether the mentee trusts the mentor; and whether the mentor has helped the mentee to cope with problems. Researchers in the field of mentoring have tested and validated the questions.

FYSB requires grantees receiving funding to provide information that can be used to evaluate outcomes for participating children. FYSB will use the information provided by the instrument to assure effective service delivery and program management and to guide the development of national monitoring and technical assistance systems. Finally, FYSB will use data from this collection for reporting program outcomes to Congress in the FY 2006 Performance Report during the budget process and as the basis for outcome evaluation of the program over the long term.

Rhodes J., Reddy, R., Roffman, J., and Grossman J.B. (March, 2005). Promoting Successful Youth Mentoring Relationships: A Preliminary Screening Questionnaire. The Journal of Primary Prevention, 26:2, 147-167.

Respondents: Public, community- and faith-based organizations receiving funding to implement the MCP program.

Annual Burden Estimates
Instrument | Number of respondents | Number of responses per respondent | Average burden hours per response | Total burden hours
Relationship Quality Instrument for Mentoring Children of Prisoners Program | 215 | 1 | 116 | 24,940

Estimated Total Annual Burden Hours: 24,940.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project. Fax: 202-395-7245. Attn: Desk Officer for the Administration for Children and Families.

Dated: April 29, 2009.
Janean Chambers,
Reports Clearance Officer.

[FR Doc. E9-10205 Filed 5-4-09; 8:45 am]

BILLING CODE 4184-01-P